SECURITIES AND EXCHANGE COMMISSION

Submission for OMB Review; Comment Request

Upon written request, copies available from: Securities and Exchange Commission, Office of Filings and Information Services, Washington, DC 20549.

Extension:

Form T-1, OMB Control No. 3235-0110, SEC File No. 270-121.

Form T-2, OMB Control No. 3235-0111, SEC File No. 270-122.

Form T-3, OMB Control No. 3235-0105, SEC File No. 270-123.

Form T-4, OMB Control No. 3235-0107, SEC File No. 270-124.

Notice is hereby given that pursuant to the Paperwork Reduction Act of 1995 (44 U.S.C. 3501 et seq.) the Securities and Exchange Commission (“Commission”) has submitted to the Office of Management and Budget the requests for extension of the previously approved collections of information discussed below.

Form T-1 (OMB 3235-0110; SEC File No. 270-121) is a statement of eligibility and qualification under the Trust Indenture Act of 1939 of a corporation designated to act as a trustee. The information is used to determine whether the trustee is qualified to serve under the indenture. Form T-1 is filed on occasion. The information required by Form T-1 is mandatory. All information is provided to the public upon request. Form T-1 takes approximately 15 hours to prepare and is filed by 13 respondents. It is estimated that 25% of the 195 total burden hours (49 hours) is prepared by the company. The remaining 75% of the burden hours is attributed to outside cost.

Form T-2 (OMB 3235-0111; SEC File No. 270-122) is a statement of eligibility of an individual trustee to serve under an indenture relating to debt securities offered publicly. The information is used to determine whether the trustee is qualified to serve under the indenture.

The information required by Form T-2 is mandatory. All information is provided to the public upon request. Form T-2 takes approximately 9 hours to prepare and is filed by 36 respondents. It is estimated that 25% of the 324 total burden hours (81 hours) is prepared by the filer. The remaining 75% of the burden hours is attributed to outside cost.

Form T-3 (OMB 3235-0105; SEC File No. 270-123) is an application for qualification of an indenture under the Trust Indenture Act of 1939. The information provided by Form T-3 is used by the staff to decide whether to qualify an indenture relating to securities offered to the public in an offering registered under the Securities Act of 1933. The information required by Form T-3 is mandatory. All information is provided to the public upon request. Form T-3 takes approximately 43 hours to prepare and is filed by 78 respondents. It is estimated that 25% of the 3,354 total burden hours (838.5 hours) is prepared by the filer. The remaining 75% of the burden hours is attributed to outside cost.

Form T-4 (OMB 3235-0107; SEC File No. 270-124) is used to apply for an exemption pursuant to Section 304(c) of the Trust Indenture Act of 1939 and is transmitted to shareholders. The information required by Form T-4 is mandatory. All information is provided to the public upon request. Form T-4 takes approximately 5 hours to prepare and is filed by 3 respondents. It is estimated that 25% of the 15 burden hours (4 hours) is prepared by the filer. The remaining 75% of the burden hours is attributed to outside cost.

An agency may not conduct or sponsor, and a person is not required to respond to, a collection of information unless it displays a currently valid control number.

Written comments regarding the above information should be directed to the following persons: (i) Desk Officer for the Securities and Exchange Commission, Office of Information and Regulatory Affairs, Office of Management and Budget, Room 10102, New Executive Office Building, Washington, DC 20503; and (ii) Kenneth A. Fogash, Acting Associate Executive Director/CIO, Office of Information Technology, Securities and Exchange Commission, 450 Fifth Street, NW., Washington, DC 20549. Comments must be submitted to OMB within 30 days of this notice.

Dated: September 15, 2003.
Margaret H. McFarland,
Deputy Secretary.

[FR Doc. 03-24223 Filed 9-24-03; 8:45 am]

BILLING CODE 8010-01-P